DEPARTMENT OF ENERGY

Federal Energy Regulatory Commission

[Docket No. CP01-147-000]

Northern Natural Gas Company; Notice of an Application

May 2, 2001.

Take notice that on April 6, 2001 Northern Natural Gas Company (Northern), 1111 South 103rd Street, Omaha, Nebraska 68124-1000, filed in Docket No. CP01-147-000, a request pursuant to Section 7(b) of the Natural Gas Act (NGA), as amended, and the Rules and Regulations of the Federal Energy Regulatory Commission (Commission), requesting permission and approval to abandon service under an individually certificated agreement, all as more fully set forth in the application which is on file with the Commission, and open to public inspection. The application may be viewed on the web at http://www.ferc.fed/us/online/rims/htm (Call 202-208-2222 for assistance.)

Specifically, Northern proposes to abandon service to El Paso Natural Gas Company (El Paso) under Rate Schedule T-2, contained in its FERC Gas Tariff, Original Volume No. 2. Northern further states that the underlying contract has not provided service to several years and has been terminated in accordance with the contract terms.

Any questions regarding this application should be directed to Keith L. Petersen, Director, Certificates and Reporting for Northern, 1111 South 103rd Street, Omaha, Nebraska 68124, at (402) 398-7421 or Bret Fritch, Senior Regulatory Analyst, at (402) 398-7140.

Any person desiring to be heard or make any protest with reference to said application should on or before May 23, 2001, file with the Commission, 888 First Street, NE., Washington, DC 20426, a motion to intervene or a protest in accordance with the requirements of the Commission's Rules of Practice and Procedures (18 CFR Sections 385.211 and 385.214) and the Regulations under the Natural Gas Act (18 CFR Section 157.10). All protests filed with the Commission will be considered by it in determining the appropriate action to be taken but will not serve to make the Protestants parties to the proceedings. Any person wishing to become party to a proceeding or to participate as a party in any hearing therein must file a petition in accordance with the Commission's Rules.

Take further notice that, pursuant to the authority contained in and subject to the jurisdiction conferred upon the Commission by Sections 7 and 15 of the Natural Gas Act and the Commission's Rules of Practice and Procedures, a hearing will be held without further notice before the Commission on this application if no protest or motion to intervene is filed within the time required herein. At that time, the Commission, on its own review of the matter, will determine whether granting the Abandonment is required by the public convenience and necessity. If a petition for leave to intervene is timely filed, or if the Commission on its own motion believes that a formal hearing is required, further notice of such hearing will be duly given. Comments, protests and interventions may be filed electronically via the internet in lieu of paper. See, 18 CFR 385.2001(a)(1)(iii) and the instructions on the Commission's web site at http://www.ferc.fed.us/efi/doorbell.htm.

Under the procedure herein provided for, unless otherwise advised, it will be unnecessary for Northern to appear or be represented at the hearing.

David P. Boergers,
Secretary.

[FR Doc. 01-11478 Filed 5-4-01; 8:45 am]

BILLING CODE 6717-01-M